DEPARTMENT OF DEFENSE

GENERAL SERVICES ADMINISTRATION

NATIONAL AERONAUTICS AND SPACE ADMINISTRATION

[OMB Control No. 9000-0134;Docket 2014-0055; Sequence 10]

Federal Acquistion Regulation; Submission to OMB Review; Environmentally Sound Products

AGENCY: Department of Defense (DOD), General Services Administration (GSA), and National Aeronautics and Space Administration (NASA).

ACTION: Notice of request for public comments regarding an extension to an existing OMB clearance.

SUMMARY: Under the provisions of the Paperwork Reduction Act (44 U.S.C. chapter 35), the Regulatory Secretariat Division (MVCB) will be submitting to the Office of Management and Budget (OMB) a request to review and approve an extension of a previously approved information collection requirement concerning environmentally sound products. A notice was published in the Federal Register at 79 FR 15591 on March 20, 2014. No comments were received.

DATES: Submit comments on or before August 4, 2014.

ADDRESSES: Submit comments identified by Information Collection 9000-0134, Environmentally Sound Products, by any of the following methods:

• Regulations.gov: http://www.regulations.gov. Submit comments via the Federal eRulemaking portal by searching the OMB control number 9000-0134. Select the link “Comment Now” that corresponds with “Information Collection 9000-0134, Environmentally Sound Products”. Follow the instructions provided on the screen. Please include your name, company name (if any), and “Information Collection 9000-0134, Environmentally Sound Products” on your attached document.

• Fax: 202-501-4067.

• Mail: General Services Administration, Regulatory Secretariat Division (MVCB), 1800 F Street NW., Washington, DC 20405. ATTN: Hada Flowers/IC 9000-0134, Environmentally Sound Products.

Instructions: Please submit comments only and cite Information Collection 9000-0134, Environmentally Sound Products, in all correspondence related to this collection. All comments received will be posted without change to http://www.regulations.gov, including any personal and/or business confidential information provided.

FOR FURTHER INFORMATION CONTACT: Mr. Michael O. Jackson, Procurement Analyst, Governmentwide Acquisition Policy, GSA, 202-208-4949 or michaelo.jackson@gsa.gov.

SUPPLEMENTARY INFORMATION:

A. Purpose

This information collection complies with Section 6002 of the Resource Conservation and Recovery Act (RCRA) (42 U.S.C. 6962). RCRA requires the Environmental Protection Agency (EPA) to designate items which are or can be produced with recovered materials. RCRA further requires agencies to develop affirmative procurement programs to ensure that items composed of recovered materials will be purchased to the maximum extent practicable. Affirmative procurement programs required under RCRA must contain, as a minimum: (1) A recovered materials preference program and an agency promotion program for the preference program; (2) a program for requiring estimates of the total percentage of recovered materials used in the performance of a contract, certification of minimum recovered material content actually used, where appropriate, and reasonable verification procedures for estimates and certifications; and (3) annual review and monitoring of the effectiveness of an agency's affirmative procurement program.

The items for which EPA has designated minimum recovered material content standards are grouped into eight categories: (1) Construction products, (2) landscaping products, (3) nonpaper office products, (4) paper and paper products, (5) park and recreation products, (6) transportation products, (7) vehicular products, and (8) miscellaneous products. The FAR rule also permits agencies to obtain pre-award information from offerors regarding the content of items which the agency has designated as requiring minimum percentages of recovered materials.

In accordance with RCRA, the information collection applies to acquisitions requiring minimum percentages of recovered materials, when the price of the item exceeds $10,000 or when the aggregate amount paid for the item or functionally equivalent items in the preceding fiscal year was $10,000 or more.

Contracting officers use the information to verify offeror/contractor compliance with solicitation and contract requirements regarding the use of recovered materials. Additionally, agencies use the information in the annual review and monitoring of the effectiveness of the affirmative procurement programs required by RCRA.

B. Annual Reporting Burden

A reassessment of the recovered material provision, FAR 52.223-4, and clause, FAR 52.223-9, was preformed. Based on the comprehensive reassessment performed, this information collection resulted in a small increase in the total burden hours from the previous information collection that was published in the Federal Register at 76 FR 40368 on July 08, 2011. The increase is likely a result of increased awareness about green purchasing across the Federal Government. The Federal Procurement Data System was searched to determine the use of the provision and clause using element 8L Recovered Materials/Sustainability for Fiscal Year 2013. No public comments were received in prior years that have challenged the validity of the Government's estimate.

Respondents: 588.

Responses Per Respondent: 75.5.

Annual Responses: 44,394.

Hours Per Response: .5.

Total Burden Hours: 22,197.

Obtaining Copies Of Proposals: Requesters may obtain a copy of the information collection documents from the General Services Administration, Regulatory Secretariat Division (MVCB), 1800 F Street NW., Washington, DC 20405, telephone 202-501-4755. Please cite OMB control No. 9000-0134, Environmentally Sound Products, in all correspondence.

Dated: June 27, 2014.
Karlos Morgan,
Acting Director, Federal Acquisition Policy Division, Office of Government-wide Acquisition Policy, Office of Acquisition Policy, Office of Government-wide Policy.

[FR Doc. 2014-15643 Filed 7-2-14; 8:45 am]

BILLING CODE 6820-EP-P